DEPARTMENT OF VETERANS AFFAIRS

Cooperative Studies Scientific Evaluation Committee, Amended Notice of Meeting

The Department of Veterans Affairs gives notice under the Federal Advisory Committee Act that the Cooperative Studies Scientific Evaluation Committee will hold a meeting on July 15, 2020 by videoconference. The meeting will begin at 8:30 a.m. and end at 4:30 p.m.

The Committee advises the Chief Research and Development Officer on the relevance and feasibility of proposed projects and the scientific validity and propriety of technical details, including protection of human subjects.

The session will be open to the public for approximately 30 minutes at the start of the meeting for the discussion of administrative matters and the general status of the program. The remaining portion of the meeting will be closed to the public for the Committee's review, discussion, and evaluation of research and development applications.

During the closed portion of the meeting, discussions and recommendations will deal with qualifications of personnel conducting the studies, staff and consultant critiques of research proposals and similar documents, and the medical records of patients who are study subjects, the disclosure of which would constitute a clearly unwarranted invasion of personal privacy. As provided by section 10(d) of Public Law 92-463, as amended, closing portions of this meeting is in accordance with 5 U.S.C. 552b(c)(6) and (c)(9)(B).

The Committee will not accept oral comments from the public for the open portion of the meeting. Members of the public who wish to attend the open teleconference should call 1-800-767-1750 using the passcode 22524#. Those who plan to attend or wish additional information should contact Grant Huang, MPH, Ph.D., Director, Cooperative Studies Program (10X2), Department of Veterans Affairs, 810 Vermont Avenue NW, Washington, DC 20420, at (202) 443-5700 or by email at grant.huang@va.gov. Those wishing to submit written comments may send them to Dr. Huang at the same address and email.

Dated: June 2, 2020.
LaTonya L. Small,
Federal Advisory Committee Management Officer.

[FR Doc. 2020-12248 Filed 6-4-20; 8:45 am]

BILLING CODE P